DEPARTMENT OF JUSTICE

Antitrust Division

Notice Pursuant to the National Cooperative Research and Production Act of 1993—Application Service Provider Industry Consortium, Inc.

Notice is hereby given that, on May 15, 2001, pursuant to section 6(a) of the National Cooperative Research and Production Act of 1993, 15 U.S.C. 4301 et seq. (“the Act”), Application Service Provider Industry Consortium, Inc. has filed written notifications simultaneously with the Attorney General and the Federal Trade Commission disclosing changes in its membership status. The notifications were filed with the purpose of extending the Act's provisions limiting the recovery of antitrust plaintiffs to actual damages under specified circumstances. Specifically, 360Networks, Seattle, WA; 3Plex, Cambridge, MA; Access Colo, Inc., Morristown, NJ; Afcomp, Dubai internet City, Dubai, United Arab Emirates; Alderan Consultores, Madrid, Spain; Anachron B.V., Amsterdamn, The Netherlands; Anite Business Systems Ltd., Slough, Berkshire, United Kingdom; AppWired, Inc., Las Colinas, TX; Ascension Health Information, Evansville, IN; ASP Konsortium e.V., Unterschleissheim, Germany; ASP-One, Inc., Skokie, IL; asset-management.com Ltd., London, United Kingdom; Avaya Inc., Basking Ridge, NJ; B2Biscom S.p.A., Milano, Italy; BellSouth, Atlanta, GA; Blixer S.p.A., Milan, Italy; Bright Sage, Inc., Chicago, IL; Carolinas Imaging, Durham, NC; Chemresult.Com, Oevel, Belgium; Ciaoservice, Torino, Italy; Clicksure Limited, Oxford, United Kingdom; Comverse Network Systems, Hertzelia, Israel; Copper Dragon Limited, Derby, Derbyshire, United Kingdom; DotsConnect, Columbus, GA; E-Business, Malakoff Cedea, France; Efluxa s.r.l., Milano, Italy; eOnline, Inc., Cupertino, CA; Equative, Inc., Newport Beach, CA; Erogo, Tustin, CA; Extensity, Inc., Emeryville, CA; Fairwell, Paris, France; Funder Online Corp., Burlington, Ontario, Canada; Global APP, Santa Barbara, CA; GoToWeb S.p.A., Turin, Italy; Innoways Limited, Northpoint, Hong Kong—China; InsureHiTech, Cambridge, MA; InterchangeDigital, Inc., Des Plaines, IL; Internet Appliances, Inc., Fremont, CA; Interoperability Technology Association for Information Processing, Tokyo, Japan; ITNET, Birmingham, United Kingdom; Korbi.Net (PTY) Ltd., Cape Town, South Africa; Korea Association of Information & Teleco, Seacho-GU, Republic of Korea; M7 Networks Inc., San Diego, CA; Modus Novo, Lod, Israel; Mogul Services AB, Stockholm, Sweden; Namaya Technologies Ltd., Kfar Saba, Israel; Novant Health, Winston-Salem, NC; Oak Grove Systems Inc., Altadena, CA; Performix Technologies Ltd., Dublin, Ireland; Ramboll Informatik A/S, Virum, Denmark; RealScale Technologies, Zaventem, Belgium; Stonehouse Technologies, Inc., Plano, TX; Tecnidata-ASP, Lisbon, Portugal; Telecel Online, Lisbon, Portugal; Telecom Italia S.p.A., Roma, Italy; Telverse Communications, Dulles, VA; Toolwire Inc., Milpital, CA; Whale Communications, Fort Lee, NJ; Wizmo Inc., Eden Prairie, MN; Corechange, Inc., Boston, MA; Net2ASP, Ottawa, Ontario, Canada; Star 21 Networks (formerly Star One), Frankfurt, Germany; Into Networks, Cambridge, MA; Financial Markets Solutions, Bellevue, WA; Paperfly Corporation, Sunnyvale, CA; Ingram Micro, Santa Ana, CA; TeleCity, London, United Kingdom; Avasta, Inc. (formerly Chapter2), San Francisco, CA; Intel Online Services, Seattle, WA; Telebright S.A., Santiago, Chile; Atesto Technologies Inc., Fremont, CA; Peregrine Systems, Inc., San Diego, CA; Aleph SRL., San Martino Ulmiano, Italy; NSM Global Inc., Pickering, Ontario, Canada; RapidStream, Inc., San Jose, CA; NC-Virtual Systems Holding BV, Amsterdam, The Netherlands; Info Directions, Inc., Victor, NY; Accenture (formerly Andersen Consulting), Chicago, IL; J.P. Morgan Advisory Services, Inc., Cambridge, MA; correctnet global information solutions, Inc., Hauppauge, NY; eFront, Paris, France; Veracicom, Tacoma, WA; Consortio, Inc., Bellevue, WA; East.net (China) Co. Ltd., Beijing, People's Republic of China; SupplyScience, Westwood, MA; Aspin Networks, Inc., Naperville, IL; Kika Medical, Nancy, France; TrueSpectra, Inc., Burlingame, CA; Lost Wax, Richmond, Surrey, United Kingdom; ENX, Inc., Cupertino, CA; Wipro Tedchnologies, Santa Clara, CA; The Agilience Group, Munchen, Germany; Call Sciences Ltd., Slough, Berkshire, United Kingdom; Novis Telecom, SA, Senherada Hora, Portugal; eMobile Data Inc., Richmond, British Columbia, Canada; Linux-At-Business, Saint Denis, France; Prescient Hosting LLC, Atlanta, GA; Kiodex, Inc., New York, NY; Netragon AG, Schwalbach, Germany; iVita Corporation, Houston, TX; Backplane, Inc., Emeryville, CA; Liberator Limited, Zelienople, PA; PatchLink Corp. (formerly PatchLink.com Corporation), Scottsdale, AZ; Virtage, Lod, Israel; Virtual Computer, Maurepas, France; AHP, Informatica e Servicos, Lda, Lisboa, Portugal, Blue292, Durham, NC; Intranology, Montgomery, AL; GlobalNet Telecommunications International Limited, North Point, Hong Kong-China; Lumedx Corporation, Oakland, CA; Coradiant Inc., Boston, MA; Enterpulse, Decatur, GA; Akazi Technologies, Grenoble, France, IP Applications Corp., New Westminster, British Columbia, Canada; Sandy Bay Networks, Burlington, MA; WM-data infra Solutions/ASP-Solutions, Stockholm, Sweden; Market Place Print, Inc., Pittsburgh, PA; Centra Software, Lexington, MA; UBICCO, Paris, France; ESB International Computing, Dublin, Ireland; Aurigin Systems Inc., Cupertino, CA; InterConnect Exchange Europe Ltd., West Draxton, Middlesex, United Kingdom; CDG Europe b.v., Zuid-Holland, The Netherlands; e-Business Australia Pty. Ltd., Melbourne, Victoria, Australia; Optial Corporation, Alpharetta, GA; Watchfire Corporation, Kanata, Ontario, Canada; Electronic Data Systems, Plano, TX; Vectant, Inc., New York, NY; 724 Solutions, Inc., Toronto, Ontario, Canada; ASPGulf.Com Limited, Dubai, United Arab Emirates; Opticom, Andover, MA; Batelco Jeraisy Limited, Riyadh, Saudi Arabia; Engyro Inc., Shelton, CT;

EPIK Communications, Orlando, FL; American Institute of Certified Public Accountants (AICPA), New York, NY; LoudCloud, Inc., Sunnyvale, CA; MH2Technologies, Ltd., Dallas, TX; ThinPrint GmbH, Berlin, Germany; uni-X Software AG, Osnabriick, Germany; Metanext, Montrouge, France; TruArc, Inc. (formerly Prevenance Systems, Inc.), Arlington, VA; Merkatum Corporation, Coral Gables, FL; Inciscent, Falls Church, VA; Telution, Chicago, IL; CosmoCom, Inc., Melville, NY; BroadBend Office, San Mateo, CA; Seismiq, Inc., Florham, NJ; CCC Network Systems, Hicksville, NY; DST International Limited, Surbiton, Surrey, United Kingdom; SearchASP.com, Dedham, MA; Meteor, San Mateo, CA; ViewGate Networks, Inc., Alexandria, VA; NextCorp, Ltd., Irving, TX; Yube, Santa Clara, CA; interlinkONE, Inc., Wilmington, MA; SupplyWorks, Inc., Bedford, MA; Tidemark Solutions, Seattle, WA; Cognos Corporation, Burlington, MA; Reliable Integration Services, Inc., Tysons Corner, VA; Dataweb, Richelieu, France; AleNet, Inc., Coral Gables, FL; US Power Solutions, Cambridge, MA; Netesi S.p.a., Milano, Italy; Kyneste SpA, Rome, Italy; Vastera, Inc., Dulles, VA; NetIQ Corporation, San Jose, CA; Locale Systems Corporation, Austin, TX; Talisma Corporation, Kirkland, WA; congruency, Inc., Rochelle Park, NJ; BV Solutions Group, Inc., Overland Park, KS; Selectica, Inc., San Jose, CA; Eircom plc, Dublin, Ireland; Genesis-IT AB, Lucea, Sweden; Radware Inc., Mahway, NJ; CrossCommerce, Inc., San Francisco, CA; Gomez

Networks, Lincoln, MA; GotMarketing.com, Nepean, Ontario, Canada; MetalMaker, Inc., Chicago, IL; Damian Services Corporation, Chicago, IL; Armstrong Information Technology Group, Butler, PA; Bahwan CyberTek Technologies, Inc., Natick, MA; Driveway Corporation, San Francisco, CA; dbaDirect, Inc., Florence, KY; Applied Computer Services Co. [HASIB], Ravidh, Saudi Arabia; Trend Micro, Inc., Cupertino, CA; Ziptone, LLC, Cedar Knolls, NJ; nTeras Corporation, American Fork, UT; Defense Enterprise Computing Ctr. Columbus, Columbus, OH; DocuTouch, Seattle, WA; LivePerson, Inc., New York, NY; Nupremis, Inc., Boulder, CO; EPASYS Corporation, Concord, MA; eTopware Inc., Addison, TX; Qi, Sydney, NSW, Australia; Skyrr Ltd., Reykjavik, Iceland; Computacenter PLC, Hatfield, Hertfordshire, United Kingdom; ISION Internet AG, Hamburg, Germany; Alentis, Austin, TX; USADATA.com, New York, NY; TidePoint, Baltimore, MD; KW International Ltd., London, United Kingdom; Blaze Software, San Jose, CA; e4eNet, Inc., Waltham, MA; zappz, inc., Houston, TX; Trema (Americas), Inc., Boston, MA; Siemens Communications Limited, Milton Keynes, England, United Kingdom; fusionOne, Inc., San Jose, CA; Eisner Technology Solutions, New York, NY; Sitescape, Alexandria, VA; Telseon, Inc., Palo Alto, CA; iProvide, Watford, United Kingdom; Application Broadcasting International, Indianapolis, IN; J-Commerce, Inc., Calgary, Alberta, Canada; Empact Solutions, Inc., Weehawken, NJ; Elantix Corporation, Woburn, MA; Andate

GmbH, Eschborn, Germany; Systems Fusion, San Francisco, CA; Sonera Juxto Oy, Sonera, Finland; BizProLink.com. Inc., Ft. Lauderdale, FL; yellowworld AG, Berne, Switzerland; HighDeal, Fremont, CA; Intermedia.NET, Palo Alto, CA; XACCT Technologies, Inc., Santa Clara, CA; Intelligent Sales Objectives, Cedex, France; Cimmetry Systems, Inc., St. Laurent, Quebec, Canada; Marconi plc, Warrendale, PA; StorageASP, Toronto, Ontario, Canada; Cereva Networks Inc., Marlborough, MA; Menta Software Ltd., Givat Shmuel, Israel; Covation, Brentwood, TN; KM Technologies, Inc., Montreal, Quebec, Canada; Frontera Corporation (HomePage.com), Los Angeles, CA; PlateSpin, Inc., Toronto, Ontario, Canada; Nimeta, Moscow, Russia; Delray Technologies, Inc., Delray Beach, FL; ISG, Inc., Holland, MI; Techsar, Inc., San Jose, CA; The AIMS Group, Jacksonville, FL; BEA Systems, Inc., San Jose, CA; MobilCom e-business GmbH, Keil, Germany; Mobileaware, Dublin, Ireland; Telepac, Alges, Portugal; RightNow Technologies, Inc., Bozeman, MT; anchorSilk Inc., Bedford, MA; Voci Corporation, Campbell, CA; Cashware, Paris, France; eircom Multimedia, Dublin, Ireland; e-chiron—Gestao de Aplicacoes de Software, Monte da Caparica, Portugal; Ci2i, Austin, TX; Abridge, Inc., New York, NY; Personal Computers, Inc., Buffalo, NY; Centerian, Ltd., Coral Gables, FL; iLatinaB2B Business Svcs. Holding Inc., Cerrito, Argentina; Aspen Technologies, Williamsville, NY; NetworkOSS, Inc., Woodbridge,

NJ; Flatrock, Inc., Portland, OR; Allied Utility Network, Atlanta, GA; Keylime, Carlsbad, CA; Webgenerics, London, United Kingdom; Alwaha Est. for Contracting & Trading, Doha, Qatar; YASP Technologias de Informacao, S.A., Linho Sintra, Portugal; Open Text Corporation, Waterloo, Ontario, Canada; Systems and Computers Technology, Columbia, SC; eQuest Technologies, Inc., Gaithersburg, MD; Netopia, Inc., Almeda, CA; MyAdGuys.com, New York, NY; ORNIS ASP, Paris, France; InfiNet, Norfolk, VA; docHarbor, Reading, MA; eCenter, Krakow, Poland; Aspectra AG, Zurich, Switzerland; Softricity, Inc., Boston, MA; Weir Systems, LTD, Glasgow, United Kingdom; Business Link International, Providence, RI; Trinity Technology Co., Dublin, Ireland; OneChem, Ltd., Ridgefield, CT; Intelliflo Plc., Wimbledon, United Kingdom; and EurASP, Gent, Belgium have been added as parties to this venture.

Also, @ccelerate Software, Inc., San Jose, CA; 2nd Wave, Dallas, TX, 2WAY Corporation, Seattle, WA; Access Data Corporation, Pittsburgh, PA; AccTrak21 Inc., Santa Clara, CA; ACS, Dallas, TX; Active Software, Santa Clara, CA; Alitum, San Diego, CA; Allied Riser Communications, Dallas, TX; Anacomp, Inc., Poway, CA; Andalon.com, Buffalo, NY; Aplion Networks, Edison, NJ; AppNet, Inc., Bethesda, MD; AppStream, Inc., Mountain View, CA; Aptis, Inc., San Antonio, TX; Asia Online, Ltd., Hong Kong-China; ASPEC 2000, Atlanta, GA; aspective, Huntingdon, Cambridgeshire, United Kingdom; ASP-One Inc./Prologue Software, Skokie, IL; Atraxis, Zurich, Switzerland; Atreus Systems Corporation, Ottawa, Ontario, Canada; Attenda, London, United Kingdom; Biopop Integration Group, Charlotte, NC; Bluestone Software Inc., Philadelphia, PA; Borland (formerly Inprise Borland), Scotts Valley, CA; Breakaway Solutions, Inc., Boston, MA; BusinessEdge Solutions, Edison, NJ; CalendarCentral, Cary, NC; Canopy International, Newton, MA; Capstan Systems, Inc., San Francisco, CA; Captura, Kirkland, WA; CareTech Solutions, Inc., Southfield, MI; Center7, Inc., Lindon, UT; CenterBeam, Inc., Santa Clara, CA; Centromine, Ann Arbor, MI; Chell Merchant Capital, Calgary, Alberta, Canada; Choice Logic Corporation, Millburn, NJ; CITEC, Brisbane, Queensland, Australia; City Reach International, London, United Kingdom; CMeRun Corporation, Hudson, MA; CMHC Systems, Dublin, OH; CobWeb, Inc., Belleview, WA; CollegeNET, Inc., Portland, OR; Comdisco, Rosemont, IL; Computron Software, Inc., Rutherford, NJ; Compuware Corporation, Campbell, CA; Corel Corporation, Ottawa, Ontario, Canada; Corona Networks, Milpitas, CA; Cosaweb Inc., Downer's Grove, IL; CrossKeys, Kanata, Ontario, Canada; CyberSource Corporation, San Jose, CA; CyberTech Systems, Inc., Trevose, PA; Cyrus InterSoft, Inc., Minneapolis, MN; dakota imaging, inc., Columbia, MD; Deltek Systems, Inc., McLean, VA; Digital Broadband Communications, Waltham, MA; Digital Island, Inc., San Francisco, CA; Eftia OSS Canada; eGain Communications Corp., Sunnyvale, CA; ehost Europe Co, Dublin, Ireland; Ellacoya Networks, Inc., Merrimack, NH; Eltrax Systems Inc., Atlanta, GA; Emperative, Boulder, CO; EpicEdge, Houston, TX; Eprise Corporation, Framingham, MA; Ernst & Young, Calgary, Alberta, Canada; Esat Net, Dundrum Business Park, Dublin, Ireland; Ethentica, Inc., Lake Forest, CA; Evalis AG, Koln, Germany; EvolutionB, Vancouver, British Columbia, Canada; Excalibur Technologies Corp., Vienna, VA; Exclaim Technologies, Inc., San Jose, CA; Exenet Technologies, Inc., New York, NY; Exent Technologies Inc., Bethesda, MD; Exodus Communication, Santa Clara, CA; F5 Networks, Seattle, WA; FairMarket, Inc., Woburn, MA; FASTNET Corporation, Bethlehem, PA; FutureLink, Lake Forest, CA; Global ASP, Paris, France; GWA Information Systems, Inc., Concord, MA; HydraWEB Technologies, New York, NY; InfoCast Corporation, Toronto, Ontario, Canada; InfoCure, Atlanta, GA; InfoInterActive Inc., Bedford, Nova Scotia, Canada; Informative, Inc., S. San Francisco, CA; Informix Software Inc., Menlo Park, CA; Instinctive Technology, Inc., Cambridge, MA; InsynQ, Inc., Tacoma, WA; Intelligroup, Inc., Edison, NJ; Interland, Inc., Atlanta, GA; Intesa, Caracas, Venezuela; Intraclient Networks, Inc., Santa Clara, CA; Intraco Systems, Inc., Boca Raton, FL; IntraLinks, Inc., New York, NY; JAWZ Inc., Calgary, Alberta, Canada; JSB Corporation, Scotts Valley, CA; KPMG, LLP, Malvern, PA; Kronos Incorporated, Chelmsford, MA; LASON, Inc., Troy, MI; Law.com, Denver, CO; Managemark, Sunnyvale, CA; Marathon Technologies Corporation, Boxboro, MA; Maxspeed Corporation, Palo Alto, CA; MDSI Mobile Data Solutions, Richmond, British Columbia, Canada; Mercury Interactive, Sunnyvale, CA; MSHOW.com, Highlands Ranch, CO; Nareo, San Francisco, CA; netalone.com (Hong Kong) Limited, Hong Kong, Hong Kong-China; Netegrity, Waltham, MA; NetNation Communications Inc., Vancouver, British Columbia, Canada; NetToll, Issy les Moulineaux Cedex, France; Network-1 Security Solutions, Inc., Waltham, MA; New Edge Networks, Vancouver, WA; New World Apps, Inc., Vienna, VA; North Systems, Inc., San Francisco, CA; Northgate Information Solutions plc, Hemel Hempstead, Hertfordshire, United Kingdom; Novell, Orem, UT; NTT America, Inc., Mountain View, CA; NuSpeed, Maple Grove, MN; ObjectSwitch, San Rafael, CA; OmniSpace Technologies, Dallas, TX; ON Technology Corporation, Waltham, MA; onShore, Inc., Chicago, IL; openwave (formerly @mobile.com), Bellevue, WA; Optika, Inc., Colorado Springs, CO; Oracle Corporation, Redwood Shores, CA; Orcom Solutions, Inc., Bend, OR; Paradigm 3, San Jose, CA; PeerLogic, Inc., San Francisco, CA; Personable.com Inc., Fountain Valley, CA; PlaceWare, Inc., Mountain View, CA; Pointivity, Inc., San Diego, CA; Portal Software, Inc., Cupertino, CA; PSINet Consulting Solutions, Alpharetta, GA; Push, Santa Barbara, CA; QSP Inc., Raleigh, NC; Quad Research, Irvine, CA; Quest Software, Irvine, CA; Quintessent Communications, Inc., Redmond, WA; Rackspace Managed Hosting, San Antonio, TX; Raymond James & Associates, St. Petersburg, FL; REL-TEK Systems & Design, Inc., Rockville, MD; Resonate, Inc., Sunnyvale, CA; Response Networks, Inc., Alexandria, VA; RHYTHMS NetConnections, Englewood, CO; Science Aplications International Corp., San Diego, CA; Securant Technologies, San Francisco, CA; Semeru Solutions, New York, NY; SevenMountains Software, Inc., San Mateo, CA; ShopTok, San Francisco, CA; Shoreline Communications, Sunnyvale, CA; Sideware Systems Inc., North Vancouver, British Columbia, Canada; SITA, Valbonne, France; SmartSynch, Inc., Jackson, MS; Softrax Corporation, Canton, MA; Solect Technology Group, Toronto, Ontario, Canada; Spacedisk, Inc., Londonderry, NH; Spirian Technologies, Inc., Chicago, IL; SS & C Technologies, Windsor, CT; Stratech Systems Limited, The Synergy, Singapore, Singapore; SunGard Computer Services Inc., Wayne, PA; Switch & Data Facilities Company LLC, Tampa, FL; Symantec Corporation, Cupertino, CA; Syntacom IT-Services Inc., Waltham, MA; TabWare Software, Greenville, SC; Technology Solutions Company, Chicago, IL; TeleCore, Inc., Newport Beach, CA; Teleglobe Communications, Reston, VA; Teleias, Toronto, Ontario, Canada; TeleVideo, Inc., San Jose, CA; Texar (formerly Texar Software Corporation), Ottawa, Ontario, Canada; The TriZetto Group, Newport Beach, CA; The viaLink Company, Edmond, OK, Tie Solutions, Inc., Newton, MA; Top Layer Networks, Westboro, MA; TriStrata, Inc., Redwood Shores, CA; TRW, Reston, VA; US West Denver, CO; Universal, Marlton, NJ; Velocity Computer Solutions, Burnaby, British Columbia, Canada; Vencomm.net, Denver, CO; VeriCenter, Inc., Stafford, TX; Verso Technologies, Atlanta, GA; Vertical Networks, Synnvale, CA; Voyant Technologies, Westminster, CO; WebPLAN, Kanata, Ontario, Canada; WinStar, New York, NY; WYSE Technology, Inc., San Jose, CA; XcelleNet, Alpharetta, GA; Xeno Group, San Francisco, CA; XOR, Inc., Boulder, CO; Yummy.com, Vancouver, British Columbia, Canada; Zantaz.com, Pleasanton, CA; ZLand.com, Aliso Viejo, CA; 3Com Corporation, Holmdel, NJ; AboveNet Communications, Inc., San Jose, CA; Aegis Consulting, LLC, McLean, VA; Agilera (formerly CIBER Enterprise Outsourcing), Columbia, SC; Allaire Corporation, Cambridge, MA; Apeldorn's Communication & Information Tech GmbH, Bad Homburg, Germany; Appliant, Inc., Seattle, WA; Arqana Technologies Inc., Mississauga, Ontario, Canada Aventail Corp, Seattle, WA; Avnet, Tempe, AZ; BCA it Ltd., S. Melbourne, Victoria, Australia; Blue Sky Technology Services, Delray Beach, FL; Cable & Wireless, Vienna, VA; ChoicePoint Tipton, PA; Clarus Corporation, Suwanee, GA; Concentric Network, San Jose, CA; Concord Communications, Inc., Marlboro, MA; Conference Plus, Inc., Schaumberg, IL; Data General, Westboro, MA; Data Return Corporation, Irving, TX; eALITY, Inc., Foster City, CA; ebaseOne Corp., Houston, TX; Eggrock Partners, LLC, Concrod, MA; ELF Technologies, Inc., Issaquah, WA; Eltrax Systems Inc. (New Name Verso Technologies), Atlanta, GA; Envive Corporation, Mountain View, CA; EPiCON, Inc., Chelmsford, MA; Evalis AG, Koln, Germany; FirstSense, Burlington, MA; GTE, Irving, TX; HotOffice Technologies, Inc., Boca Raton, FL; Imagcom, Arlington Heights, IL; InfoStream ASA, Oslo, Norway; IT Support Center, Inc., Dothan, AL; ITNET, Birmingham, United Kingdom; Jato Communications, Denver, CO; JustOn, Palo Alto, CA; LearningStation.com, Charlotte, NC; Logix Communications Corp., Oklahoma City, OK; Managed Object Solutions, Inc., McLean, VA; Mentergy, Troy, NY; MUA Pty Ltd., Artarmon, NSW, Australia; Multrix Group, N.V., Amsterdam, The Netherlands; National Semiconductor, Santa Clara, CA; NaviSite, Inc., Andover, MA; Netier Techologies, Inc., Carrollton, TX; Netigy, San Jose, CA; Network Computing Devices, Mountain View, CA; NorthPoint Communications, San Francisco, CA; PBM Corp., Cleveland, OH; Pilot Network Services, Inc., Alameda, CA; Pivotal Corporation, Kirkland, WA; PreferSoft Solutions, Inc., Scotts Valley, CA; Princeton Financial Systems, Princeton, NJ; Professional Advantage, North Sydney, NSW, Australia; SAGA Software, Inc., Reston, VA; SalesLogix Corporation, Scottsdale, AZ; Sequent Computer Systems, Beaverton, OR; Sharp Electronics Corp., Mahwah, NJ; Softblox, Inc., Atlanta, GA; Solution 6 Pty Ltd., Sydney, NSW, Australia; StorageNetworks, Inc., Waltham, MA; Surebridge, Inc., Lexington, MA; Telcordia Technologies, Piscataway, NJ; Tequinox, A Div. of Mincom Limited, Stames Corner QL, Australia; Vscource, Ventura, CA; Workscape, Inc., Natick, MA; Wyzdom Solutions, Inc., San Francisco, CA; X-Collaboration Software Corporation, Boston, MA; ApplicationStation.com, Charlotte, NC; Apptus, Inc., Reston, VA; b2bsolutionsonline, Billingham, Teeside, United Kingdom; Convergence, Inc., Tampa, FL; Eltrax Systems Inc., Atlanta, GA; Foreshock, Inc., Irvine, CA; IT Support Center, Inc., Dothan, AL; Korea Digital Line, Seoul, Republic of Korea; L.I.M.S. (USA) Inc., Hollywood, FL; Mindbridge.com, Fort Washington, PA; NBNTech Inc., Lanham, MD; Network Integration Solutions, Inc., Seattle, WA; New Millennium Games, Reno, NV; Telcel Celular, C.A/T-Net, Los Palos Grandes, Caracas, Venezuela; Telstra Corporation, Melbourne, Victoria, Australia; and Veracicom, Seattle, WA have been dropped as parties to this venture.

No other changes have been made in either the membership or planned activity of the group research project. Membership in this group research project remains open, and Application Service Provider Industry Consortium, Inc. intends to file additional written notification disclosing all changes in membership.

On July 28, 1999, Application Service Provider Industry Consortium, Inc. filed its original notification pursuant to section 6(a) of the Act. The Department of Justice published a notice in the Federal Register pursuant to section 6(b) of the Act on March 21, 2000 (65 FR 15174).

The last notification was filed with the Department on February 2, 2001. A notice was published in the Federal Register pursuant to section 6(b) of the Act on March 20, 2001 (66 FR 15757).

Constance K. Robinson,
Director of Operations, Antitrust Division.

[FR Doc. 01-19395 Filed 8-2-01; 8:45 am]

BILLING CODE 4410-11-M